DEPARTMENT OF ENERGY

Federal Energy Regulatory Commission

[Project No. 13643-001]

Basin Farm Renewables, LLC; Notice of Preliminary Permit Application Accepted for Filing and Soliciting Comments, Motions To Intervene, and Competing Applications

On March 1, 2013, Basin Farm Renewables, LLC filed an application for a successive preliminary permit, pursuant to section 4(f) of the Federal Power Act (FPA), proposing to study the feasibility of the Basin Farm Renewable Energy Project to be located on the Saxtons River, in the Town of Westminster, Windham County, Vermont. The sole purpose of a preliminary permit, if issued, is to grant the permit holder priority to file a license application during the permit term. A preliminary permit does not authorize the permit holder to perform any land-disturbing activities or otherwise enter upon lands or waters owned by others without the owners' express permission.

The proposed project would consist of: (1) An intake structure equipped with trashracks; (2) an approximately 490-foot-long, 5.5-foot-diameter steel penstock adjacent to Twin Falls; (3) a 25-foot-long, 20-foot-wide powerhouse containing two or three turbine-generating units with an estimated total capacity of 250 kilowatts; (4) a 2,800-foot-long, 15-kilovolt buried transmission line connected to the existing electrical distribution system at Basin Farm; and (5) appurtenant facilities. The proposed project would have an average annual generation of approximately 764,000 kilowatt-hours.

Applicant Contact: James World, 55 Main Street, Lancaster, NH 03584; phone: (802) 376-7677.

FERC Contact: Brandon Cherry; phone: (202) 502-8328.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13643) in the docket number field to access the document. For assistance, contact FERC Online Support.

Dated: March 8, 2013.
Kimberly D. Bose,
Secretary.

[FR Doc. 2013-05945 Filed 3-14-13; 8:45 am]

BILLING CODE 6717-01-P